FEDERAL COMMUNICATIONS COMMISSION

Notice of Public Information Collection(s) Being Reviewed by the Federal Communications Commission, Comments Requested

AGENCY: Federal Communications Commission.

ACTION: Notice; correction.

SUMMARY: On January 21, 2005, the Commission published a notice inviting the general public and other Federal agencies to take the opportunity to comment on information collection(s) for OMB Control No. 3060-1061. On page 5446, columns 1 and 2, the Needs and Uses for the information collection were inaccurately described. This notice contains the correct description of the Needs and Uses for the Information Collection.

ADDRESSES: Direct all Paperwork Reduction Act (PRA) comments to Judith B. Herman, Federal Communications Commission, Room 1-C804, 445 12th Street, SW., Washington, DC 20554 or via the Internet at Judith-B.Herman@fcc.gov.

FOR FURTHER INFORMATION CONTACT: For additional information or copies of the information collection, contact Judith B. Herman at 202-418-0214 or via the Internet at Judith-B.Herman@fcc.gov.

SUPPLEMENTARY INFORMATION: On February 2, 2005 (70 FR 5446), the Federal Communications Commission published a Notice requesting comments on Public Information Collection(s) Being Reviewed by the Federal Communications Commission. In the summary for OMB 3060-1061, the Needs and Uses section of the summary contained an inaccurate description of the decision of the Report and Order (R&O) titled, “In the Matter of Procedures to Govern the Use of Satellite Earth Stations on Board Vessels (ESV) in the 5925-6425 MHz/3700-4200 MHz Bands and 14.0-14.5 GHz/11.7-12.2 GHz Bands,” IB Docket No. 02-10, FCC 04-286. On page 5446, in the first and second column, the Needs and Uses section is corrected to read as follows:

Needs and Uses: The R&O includes the following new Paperwork Reduction Act (PRA) reporting requirements: (1) C- and Ku-band must collect and maintain vessel tracking data to assist the Commission and affected operators in identifying and resolving sources of interference; (2) C-band ESV operators that coordinate their use of the 5925-6425 MHz band with the Fixed Services (FS) shall file a notification of that coordination with the Commission to be placed on Public Notice; (3) Ku-band ESV operators that coordinate their use of the 14.0-14.2 GHz and 14.47-14.5 GHz bands through the National Telecommunications and Information Administration (NTIA) Interdepartment Radio Advisory Committee (IRAC) shall file a notification of that coordination with the Commission to be placed on Public Notice; and (4) C- and Ku-band ESV operators must have a contact that is available in the United States 24 hours a day, 7 days a week, to respond to Fixed Satellite Service (FSS) operators' requests. The name, telephone number, and other pertinent information of the contact will be posted on the Commission's Web site, http://www.fcc.gov.

The Commission established licensing and service rules to govern ESV operations and to prevent interference to existing users within the C- and Ku-bands. ESV operators must submit applications (FCC Form 312) and exhibits (Schedule B) to the Commission to demonstrate that they comply with the Commission's legal and/or engineering rules. Additionally, the Commission requires a myriad of technical information such as, but not limited to, frequency of operation, off-axis effective isotropically radiated power spectral density, and the geographic area(s) in which the ESVs will operate to evaluate potential interference to existing users from ESVs. The purposes of this information collection are as follows: (1) Establish licensing and service rules for ESVs in the Ku-band and C-band; (2) prevent harmful interference to Fixed Services (FS), Fixed Satellite Service (FSS) and a limited number of Federal government facilities; (3) further the Commission's goals to manage spectrum efficiently; and (4) advance the provision of broadband telecommunications services that will benefit U.S. citizens on passenger, government (military and civilian), cargo and large recreational vessels. Without such information, the Commission would not be able to take the necessary measures to prevent harmful interference to existing users' operations from ESVs. Finally, the Commission would not be able to advance its goals of managing spectrum efficiently and promoting broadband technologies to benefit American consumers throughout the United States and abroad.

Federal Communications Commission.
Marlene H. Dortch,
Secretary.

[FR Doc. 05-3305 Filed 2-18-05; 8:45 am]

BILLING CODE 6712-01-P